ENVIRONMENTAL PROTECTION AGENCY

[FRL-9165-6]

National Drinking Water Advisory Council's Climate Ready Water Utilities Working Group Meeting Announcement

AGENCY: Environmental Protection Agency (EPA).

ACTION: Notice.

SUMMARY: The U.S. Environmental Protection Agency (EPA or Agency) is announcing the fourth in-person meeting of the Climate Ready Water Utilities (CRWU) Working Group of the National Drinking Water Advisory Council (NDWAC). The purpose of this meeting is for the Working Group to discuss climate-related tools and resources needed to address water utilities' short-term and long-term needs and mechanisms to facilitate the adoption of climate change adaptation and mitigation strategies by the water sector.

DATES: The fourth in-person CRWU Working Group meeting will take place on July 8, 2010, from 8:30 a.m. to 5:30 p.m., Mountain Daylight Time (MDT) and on July 9, 2010, from 8 a.m. to 2 p.m., MDT.

ADDRESSES: The meeting will take place at the Hotel Boulderado, which is located at 2115 13th Street, Boulder, Colorado 80302.

FOR FURTHER INFORMATION CONTACT: Interested participants from the public should contact Lauren Wisniewski, Designated Federal Officer, U.S. Environmental Protection Agency, Office of Ground Water and Drinking Water, Water Security Division (Mail Code 4608T), 1200 Pennsylvania Avenue, NW., Washington, DC 20460. Please contact Lauren Wisniewski at wisniewski.lauren@epa.gov or call 202-564-2918. CRWU Working Group meeting agendas and summaries are available at: http://www.epa.gov/safewater/ndwac/#current.

SUPPLEMENTARY INFORMATION:

Agenda: At previous meetings, the CRWU Working Group drafted key findings on the water sector and climate change, an adaptive response framework that describes actions that CRWU would undertake, and enabling environment recommendations for activities needed to create a supportive environment in which a utility can take steps to be climate ready. In this meeting, the Working Group will focus on tools, training, and resources needed to support water utilities, ways to integrate CRWU efforts with existing programs, and mechanisms to facilitate the adoption of climate change adaptation and mitigation strategies.

Public Participation: There will be an opportunity for public comment during the CRWU Working Group meeting. Oral statements will be limited to five (5) minutes, and it is preferred that only one person present the statement on behalf of a group or organization. Any person who wishes to file a written statement can do so before or after the CRWU Working Group meeting. Written statements received prior to the meeting will be distributed to all members of the Working Group before any final discussion or vote is completed. Any statements received after the meeting will become part of the permanent meeting file and will be forwarded to the CRWU Working Group members for their information. For information on access or services for individuals with disabilities, please contact Lauren Wisniewski at 202-564-2918 or by e-mail at wisniewski.lauren@epa.gov. To request accommodation of a disability, please contact Lauren Wisniewski, preferably, at least 10 days prior to the meeting to give EPA as much time as possible to process your request.

Background: The Agency's National Water Program Strategy: Response to Climate Change (2008) identified the need to provide drinking water and wastewater utilities with easy-to-use resources to assess the risk associated with climate change and to identify potential adaptation strategies. The NDWAC, established under the Safe Drinking Water Act, as amended (42 U.S.C. 300f et seq.), provides practical and independent advice, consultation and recommendations to the Agency on the activities, functions and policies related to the implementation of the Safe Drinking Water Act. On May 28, 2009, the NDWAC voted on and approved the formation of the CRWU Working Group. EPA anticipates that the Working Group will have five face-to-face meetings between December 2009 and September 2010 in addition to conference calls and/or video conferencing on an as needed basis. To date, there have been three face-to-face meetings. After the Working Group completes its charge, it will make recommendations to the full NDWAC. The NDWAC will consider these recommendations and make its own recommendations to the EPA.

Working Group Charge: The charge for the CRWU Working Group is to evaluate the concept of “Climate Ready Water Utilities” and provide recommendations to the full NDWAC on the development of an effective program for drinking water and wastewater utilities, including recommendations to: (1) Define and develop a baseline understanding of how to use available information to develop climate change adaptation and mitigation strategies, including ways to integrate this information into existing complementary programs such as the Effective Utility Management and Climate Ready Estuaries Program; (2) Identify climate change-related tools, training, and products that address short-term and long-term needs of water and wastewater utility managers, decisionmakers, and engineers, including ways to integrate these tools and training into existing programs; and (3) Incorporate mechanisms to provide recognition or incentives that facilitate broad adoption of climate change adaptation and mitigation strategies by the water sector into existing EPA Office of Water recognition and awards programs or new recognition programs.

Dated: June 16, 2010.
Cynthia C. Dougherty,
Director, Office of Ground Water and Drinking Water.

[FR Doc. 2010-15033 Filed 6-21-10; 8:45 am]

BILLING CODE 6560-50-P